DEPARTMENT OF DEFENSE

Office of the Secretary

Department of Defense Medicare-Eligible Retiree Health Care Board of Actuaries (DoD MERHC BoA); Notice of Federal Advisory Committee Meeting

AGENCY: Under Secretary of Defense for Personnel and Readiness, Department of Defense (DoD).

ACTION: Notice of open Federal Advisory Committee meeting.

SUMMARY: This notice was not sent for publication in the Federal Register in September 2025. Although the meeting has already occurred, the notice is being published in its entirety. The DoD is publishing this notice to announce that the following Federal Advisory Committee meeting of the DoD MERHC BoA will take place.

DATES: Open to the public Friday, September 22, 2025, from 11:00 a.m. to 2:00 p.m.

ADDRESSES: ***This meeting will be held virtually*** The meeting can be accessed at https://dod.teams.microsoft.us/l/meetup-join/19%3adod%3ameeting_ac83d565d79a4b43945418bd4e26635e%40thread.v2/0?context=%7b%22Tid%22%3a%22102d0191-eeae-4761-b1cb-1a83e86ef445%22%2c%22Oid%22%3a%22244081cb-d4dd-4158-8c6f-2048b5cf15bb%22%7d.

If you need any assistance, please contact Drew May (202) 923-9974 or Drew.T.May.civ@mail.mil as soon as possible.

FOR FURTHER INFORMATION CONTACT: Drew May, (202) 923-9974 (Voice), Drew.T.May.civ@mail.mil (Email). Mailing address is Defense Human Resources Activity, DoD Office of the Actuary, 4800 Mark Center Drive, Ste. 03E25, Alexandria, VA 22350-8000. Website: https://actuary.defense.gov/. The most up-to-date changes to the meeting agenda can be found on the website.

SUPPLEMENTARY INFORMATION: This meeting is being held under the provisions of chapter 10 of title 5, United States Code (U.S.C.) (commonly known as the “Federal Advisory Committee Act or (“FACA”), 5 U.S.C. 552b (commonly known as the “Government in the Sunshine Act”), and 41 CFR 102-3.140 and 102-3.150.

Due to circumstances beyond the control of the Designated Federal Officer and the DoD, the DoD MERHC BoA was unable to provide public notification required by 41 CFR 102-3.150(a) concerning its September 22, 2025 meeting. Accordingly, the Advisory Committee Management Officer for the Department of Defense, pursuant to41 CFR 102-3.150(b), waives the 15-calendar day notification requirement.

Purpose of the Meeting: The purpose of the meeting is to execute the provisions of 10 U.S.C. chapter 56(10 U.S.C. 1114 et seq.). The DoD MERHC BoA shall review DoD actuarial methods and assumptions to be used in the valuation of benefits under DoD retiree health care programs for Medicare-eligible beneficiaries.

Agenda

1. Approve actuarial assumptions and methods needed for calculating: * (11:00 a.m.)

—September 30, 2024, unfunded liability (UFL)

—FY 2027 per capita full-time and part-time normal cost amounts

—October 1, 2025, Treasury UFL amortization payment

2. Approve per capita full-time and part-time normal cost amounts for the October 1, 2025 (FY 2026) normal cost payments * (11:30 a.m.)

3. Medicare-Eligible Retiree Health Care Fund Update (12:00 p.m.)

4. September 30, 2023, Actuarial Valuation Results (12:30 p.m.)

5. September 30, 2024, Actuarial Valuation Proposals (1:00 p.m.)

* Board approval required

Meeting Accessibility: Pursuant to5 U.S.C. 552b and 41 CFR 102-3.140 through 102-3.165, this meeting is open to the public.

Written Statements: Persons desiring to attend the DoD Medicare-Eligible Retiree Health Care Board of Actuaries Meeting or make an oral presentation or submit a written statement for consideration at the meeting must notify Drew May at (202) 923-9974, or Drew.T.May.civ@mail.mil, by September 18, 2025.

Dated: January 15, 2026.
Aaron T. Siegel,
Alternate OSD Federal Register Liaison Officer, Department of Defense.

[FR Doc. 2026-01037 Filed 1-20-26; 8:45 am]

BILLING CODE 6001-FR-P